DEPARTMENT OF COMMERCE

International Trade Administration

[A-580-839]

Certain Circular Welded Non-Alloy Steel Pipe From Korea: Notice of Extension of Time Limit for 2001-2002 Administrative Review

AGENCY: Import Administration, International Trade Administration, Department of Commerce.

ACTION: Notice of extension of time limit.

SUMMARY: The Department of Commerce is extending the time limit for the preliminary results of the current review of the antidumping duty order on certain circular welded non-alloy steel pipe from Korea. The period of review is November 1, 2001 through October 31, 2002. This extension is made pursuant to section 751(a)(3)(A) of the Tariff Act of 1930, as amended.

EFFECTIVE DATE: June 6, 2003.

FOR FURTHER INFORMATION CONTACT: Scott Holland or Julie Santoboni, Import Administration, International Trade Administration, U.S. Department of Commerce, 14th Street and Constitution Avenue, NW., Washington, DC 20230; telephone (202) 482-1279 or (202) 482-4194, respectively.

Background

On December 26, 2002, the Department published a notice of initiation of administrative review of the antidumping duty order on certain circular welded non-alloy steel pipe from Korea, covering the period November 1, 2001, through October 31, 2002. See Initiation of Antidumping and Countervailing Duty Administrative Reviews, (67 FR 78772). The preliminary results for this review are currently due no later than August 2, 2003.

Extension of Time Limits for Preliminary Results

Section 751(a)(3)(A) of the Act requires the Department to issue the preliminary results of an administrative review within 245 days after the last day of the anniversary month of an order for which a review is requested and a final determination within 120 days after the date on which the preliminary results are published. If it is not practicable to complete the review within the time period, section 751(a)(3)(A) of the Act allows the Department to extend these deadlines to a maximum of 365 days and 180 days, respectively.

We are currently analyzing sales and cost information provided by the three respondents in this review and are awaiting supplemental information. In addition, we plan to verify the sales and cost information provided by the respondents in accordance with 19 CFR 351.307 (b)(1)(v). Accordingly, it is not practicable to complete this review within the originally anticipated time limit (i.e., August 2, 2003). Therefore, the Department of Commerce is extending the time limit for completion of the preliminary results to not later than December 1, 2003, in accordance with section 751(a)(3)(A) of the Act.

We are issuing and publishing this notice in accordance with sections 751(a)(1) and 777(i)(1) of the Act.

Dated: June 3, 2003.
Jeffery May,
Deputy Assistant Secretary for AD/CVD Enforcement.

[FR Doc. 03-14347 Filed 6-5-03; 8:45 am]

BILLING CODE 3510-DS-P